NUCLEAR REGULATORY COMMISSION

Request To Amend a License To Import Radioactive Waste

Pursuant to Title 10 of the Code of Federal Regulations (10 CFR) 110.70(b) “Public Notice of Receipt of an Application,” please take notice that the U.S. Nuclear Regulatory Commission (NRC) has received the following request for an import license amendment. The changes being requested are: (1) Change the company name from Duratek to EnergySolutions Services, Inc., and (2) extend the date of expiration from December 31, 2016 to December 31, 2021. A copy of the request is available electronically through the Agencywide Documents Access and Management System (ADAMS), and can be accessed online in the ADAMS Public Documents collection at http://www/nrc/gov/reading-rm/adams.html. To begin the search, select “ADAMS public Documents” and then select “Begin Web-based ADAMS Search.” For problems with ADAMS, please contact the NRC's Public Document Room reference staff at 1-800-397-4209, 301-415-4737, or by email to pdr.resource@nrc.gov. The ADAMS accession number for each document referenced is provided in the “Description of Material.”

A request for a hearing or petition for leave to intervene may be filed within 30 days after publication of this notice in the Federal Register (FR). Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

A request for a hearing or petition for leave to intervene may be filed with the NRC electronically in accordance with NRC's E-Filing rule promulgated in August 2007, 72 FR 49139; August 28, 2007. Information about filing electronically is available on the NRC's public Web site at http://www.nrc.gov/site-help/e-submittals.html. To ensure timely electronic filing, at least 5 days prior to the filing deadline, the petitioner/requestor should contact the Office of the Secretary by email at HEARINGDOCKET@NRC.GOV, or by calling (301) 415-1677, to request a digital ID certificate and allow for the creation of an electronic docket.

In addition to a request for hearing or petition for leave to intervene, written comments, in accordance with 10 CFR 110.81, should be submitted within thirty days after publication of this notice in the Federal Register to Office of the Secretary, U.S. Nuclear Regulatory Commission, Washington, DC 20555, Attention: Rulemaking and Adjudications.

The information concerning this import license amendment application follows. Background licensing actions associated with this amendment can be accessed online in ADAMS Public Documents, or can be requested of the NRC licensing officer at 301-287-9059.

NRC Import License Application
Name of applicant, date of application, date received, application No., docket No., ADAMS accession No. | [Description of Material]: Material type | [Description of Material]: Total quantity | [Description of Material]: End use | [Description of Material]: Country from
EnergySolutions Services, Inc., October 27, 2016, October 31, 2016, IW029/01, 11005896, ML16305A003 | No change in material requested (low-level radioactive waste resulting from the incineration of hearth ash non-conforming materials) | No increase (up to a maximum total of 1,000 tons of low-level waste) | Amend to: (1) Change the company name from Duratek to EnergySolutions Services, Inc., and (2) extend the date of expiration from December 31, 2016 to December 31, 2021. | Germany.

For The Nuclear Regulatory Commission.
Dated this 29th day of December 2016, at Rockville, Maryland.
Andy Imboden,
Acting Director, Office of International Programs.

[FR Doc. 2016-31988 Filed 1-4-17; 8:45 am]

BILLING CODE 7590-01-P